DEPARTMENT OF COMMERCE

International Trade Administration

[A-580-841]

Structural Steel Beams From Korea: Extension of Time Limit for Preliminary Results of Antidumping Duty Administration Review

AGENCY: Import Administration, International Trade Administration, Department of Commerce.

ACTION: Notice of extension of time limit for the preliminary results of antidumping duty administrative review.

SUMMARY: The Department of Commerce (“the Department”) is extending the time limit for the preliminary results of the antidumping duty administrative review of structural steel beams (“SSB”) from Korea.

EFFECTIVE DATE: April 17, 2003.

FOR FURTHER INFORMATION CONTACT: Stephen Bailey or Aishe Allen AD/CVD Enforcement Group III, Office 9, Import Administration, International Trade Administration, U.S. Department of Commerce, 14th Street and Constitution Avenue, NW., Washington, DC 20230; telephone: (202) 482-1102 or (202) 482-0172 respectively.

Background: On August 6, 2002, the Department published a notice of opportunity to request an administrative review of the antidumping duty order on SSB from Korea. See Antidumping or Countervailing Duty Order, Finding, or Suspended Investigation; Opportunity to Request Administrative Review, 67 FR 50856 (August 6, 2002). On August 30, 2002, Dongkuk Steel Mill Co., Ltd. (“DSM”) and INI Steel Company (“INI”), Korean producers of subject merchandise, requested that the Department conduct an administrative review of their sales of subject merchandise during the period of review (“POR”). Also, on August 30, 2002, petitioners ¹ requested that the Department conduct an administrative review of INI. On September 25, 2002, the Department published a notice of initiation of a review of SSB from Korea covering the period August 1, 2001 through July 31, 2002. See Initiation of Antidumping and Countervailing Duty Administrative Reviews and Requests for Revocation in Part, (67 FR 60210) (September 25, 2002). The Department's preliminary results are currently due on May 3, 2003.

¹ Petitioners are Nucor Corporation, Nucor Yamato Steel Co., and TXI-Chaparral Steel Co.

Extension of Time Limit for Preliminary Results

Section 751(a)(3)(A) of the Tariff Act of 1930, as amended (“the Act”), and section 351.213(h)(2) of the Department's regulations, state that if it is not practicable to complete the review within the time specified, the administering authority may extend the 245-day period to issue its preliminary results by up to 120 days. Completion of the preliminary results of this review within the 245-day period is not practicable because the review involves significant affiliation issues, and a large number of transactions for each company (i.e., DSM and INI). Additionally, the Department is investigating sales and cost for both companies which require the Department to gather and analyze a significant amount of information pertaining to each company's sales practices, manufacturing costs and corporate relationships.

Therefore, in accordance with section 751(a)(3)(A) of the Act, and section 351.213(h)(2) of the Department's regulations, the Department is extending the time period for issuing the preliminary results of review by 120 days until August 31, 2003. The final results continue to be due 120 days after the publication of the preliminary results.

This notice is issued and published in accordance with section 751(a)(3)(A) of the Act, and Section 351.213(h)(2) of the Department's regulations.

Dated: April 11, 2003.
Richard O. Weible,
Acting Deputy Assistant Secretary for Import Administration, Group III.

[FR Doc. 03-9513 Filed 4-16-03; 8:45 am]

BILLING CODE 3510-DS-M